DEPARTMENT OF THE INTERIOR

Bureau of Land Management

[AK-040-1430-ER; A-059905]

Public Land Closure; Prohibition of Certain Activities; AK

AGENCY: Anchorage Field Office, Bureau of Land Management, DOI.

ACTION: Notice to the public of temporary public lands closure and prohibition of certain activities on public lands administered by the Anchorage Field Office, Bureau of Land Management, Alaska; withdrawal of Supplementary Rule.

SUMMARY: This notice closes certain public lands in Alaska administered by the Bureau of Land Management (BLM) to the use of fireworks and to the use of firearms for purposes other than licensed hunting. It also prohibits the use of lead shot for hunting. This closure notice is necessary for the management of actions, activities, and use on public lands which may have, or are having, adverse impacts on persons using public lands, on property, and on resources located on public lands. The subject lands are utilized for a public boat launch, lawful hunting and boating, and are adjacent to the heavily traveled Glenn Highway.

This notice also withdraws a previously published notice of Supplementary Rules on the same subject matter.

EFFECTIVE DATE: This closure notice is effective August 22, 2002 and will remain in effect until such lands are conveyed to the State of Alaska.

ADDRESSES: A map showing this closure and prohibitions is available from the following BLM office: BLM-Anchorage Field Office, 6881 Abbott Loop Road, Anchorage, Alaska 99507-2599.

The map may also be viewed on the Field Office Web site at: http://www.anchorage.ak.blm.gov/knikclose.html

FOR FURTHER INFORMATION CONTACT: Peter J. Ditton, Anchorage Field Manager, 907-267-1246.

SUPPLEMENTARY INFORMATION:

Background

While hunters, boaters, and other recreationists can schedule their use around published hunting seasons for safety reasons, they are not able to avoid random shooting, or “plinking,” at makeshift targets such as bottles, cans, or natural objects. Motorists on the Glenn Highway are not able to schedule their highway travel to avoid such shooting. Local conditions such as heavy brush can reduce visibility and increase the hazard to other recreationists and motorists from shooting.

Recent incidents involving random target shooting have endangered other users of this area, as well as motorists on the adjacent Glenn Highway. The discharge of fireworks increases the risk of wildfires. In addition, resource damage is occurring from the accumulation of debris and lead contamination. To reduce the incidence of future conflicts and enhance public safety, this area of public land known as the Knik River Access or Gravel Pit Lake, located north of Anchorage, Alaska, is being closed to the discharge of fireworks and discharge of firearms. This area will remain open to lawful hunting by licensed hunters during seasons administered by the Alaska Department of Fish and Game. Shotgun use will be limited to ammunition containing steel or other non-lead shot.

Lands Affected

The affected lands are public lands administered by the Bureau Land Management, Anchorage Field Office, and are described as follows:

T. 16 N., R. 1 E., Seward Meridian, Alaska

Sec. 10: Lot 6, West of the Alaska Railroad

Sec. 15: Lot 6

This closure notice does not apply to other lands, specifically State or Federal lands, including State lands in the Palmer Hay Flats State Wildlife Refuge.

Withdrawal of Supplementary Rules

The Supplementary Rules published on May 17, 2002 (67 FR 35133), are hereby withdrawn.

Closure Order

1. Authority: 43 CFR 8364.1.

2. Closure: The following described lands are closed to discharge of fireworks and to the discharge of firearms except by licensed hunters during seasons designated and administered by the Alaska Department of Fish and Game:

T. 16 N., R. 1 E., Seward Meridian, Alaska

Sec. 10: Lot 6, West of the Alaska Railroad

Sec. 15: Lot 6

3. Prohibited Acts: The following acts are prohibited in the closed areas:

a. The discharge of fireworks.

b. The discharge of firearms except by licensed hunters during seasons administered by the Alaska Department of Fish and Game.

c. The use of shotgun ammunition containing lead shot.

4. Penalties: Under the Federal Land Policy and Management Act of 1976 (43 U.S.C. 1733(a)), if you knowingly and willfully violate or fail to comply with any of the prohibited acts provided in this closure notice, you may be subject to a fine under 18 U.S.C. 3571 or other penalties in accordance with 43 U.S.C. 1733.

Dated: August 16, 2002.
June Bailey,
Associate Field Manager.

[FR Doc. 02-21401 Filed 8-21-02; 8:45 am]

BILLING CODE 4310-JA-P